DEPARTMENT OF HEALTH AND HUMAN SERVICES

Centers for Medicare & Medicaid Services

42 CFR Part 424

[CMS-6012-WN]

RIN 0938-AR84

Medicare Program; Establishment of Special Payment Provisions and Requirements for Qualified Practitioners and Qualified Suppliers of Prosthetics and Custom-Fabricated Orthotics; Withdrawal

AGENCY: Centers for Medicare & Medicaid Services (CMS), HHS.

ACTION: Withdrawal of proposed rule.

SUMMARY: This document withdraws a proposed rule that was published in the Federal Register on January 12, 2017. The proposed rule specified the qualifications needed for qualified practitioners to furnish and fabricate, and qualified suppliers to fabricate prosthetics and custom-fabricated orthotics; accreditation requirements that qualified suppliers must meet in order to bill for prosthetics and custom fabricated orthotics; requirements that an organization must meet in order to accredit qualified suppliers to bill for prosthetics and custom-fabricated orthotics; and a timeframe by which qualified practitioners and qualified suppliers must meet the applicable licensure, certification, and accreditation requirements. In addition, the proposed rule removed the current exemption from accreditation and quality standards for certain practitioners and suppliers.

DATES: As of October 4, 2017, the proposed rule published January 12, 2017, at 82 FR 3678, is withdrawn.

FOR FURTHER INFORMATION CONTACT: John Spiegel, (410) 786-1909.

SUPPLEMENTARY INFORMATION: In the January 12, 2017 Federal Register (82 FR 3678), we published a proposed rule titled, “Medicare Program; Establishment of Special Payment Provisions and Requirements for Qualified Practitioners and Qualified Suppliers of Prosthetics and Custom Fabricated Orthotics” to ensure that only those who are qualified to do so can furnish, fabricate, and bill for the prosthetics and custom-fabricated orthotics addressed by the proposed rule.

We received over 5,000 public comments in response to the January 12, 2017 proposed rule.

In light of the cost and time burdens that the proposed rule would create for many providers and suppliers, particularly the cost and burden for those providers and suppliers that are small businesses, and the complexity of the issues raised in the detailed public comments received, we are withdrawing the January 12, 2017 proposed rule in order to assure agency flexibility in re-examining the issues and exploring options and alternatives with stakeholders.

Accordingly, the proposed rule published January 12, 2017, at 82 FR 3678, is withdrawn.

Dated: July 21, 2017.
Demetrios L. Kouzoukas,
Principal Deputy Administrator and Director, Center for Medicare.
Approved: September 7, 2017.
Thomas E. Price,
Secretary, Department of Health and Human Services.

[FR Doc. 2017-21425 Filed 10-3-17; 8:45 am]

BILLING CODE 4120-01-P